DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Industrial Reports Program—Wave I (Voluntary).

Form Number(s): M336L, MQ325B, MQ327D, MQ332E.

Agency Approval Number: 0607-0393.

Type of Request: Extension of a currently approved collection.

Burden: 2,092 hours.

Number of Respondents: 1,006.

Avg Hours Per Response: 2.08 hours over all forms in this request.

Needs and Uses: The Current Industrial Reports (CIR) program is a series of monthly, quarterly, and annual surveys which provide key measures of production, shipments, and/or inventories on a national basis for selected manufactured products. Government agencies, business firms, trade associations, and private research and consulting organizations use these data to make trade policy, production, and investment decisions.

For clearance purposes, the surveys are divided into “waves.” Each wave has an associated voluntary and mandatory clearance package, making 6 separate clearances. Each year, one wave (2 clearance packages) is submitted for review. Some voluntary CIR surveys have annual “counterparts” which collect data on a mandatory basis from firms that do not participate in the more frequent voluntary collection. This clearance contains counterpart collections.

In this request, we are seeking a 3-year extension of the current clearance.

Affected Public: Businesses or other for-profit organizations.

Frequency: This request contains monthly, quarterly, and annual collections.

Respondent's Obligation: Monthly and quarterly forms are Voluntary; Annual counterpart collections are mandatory.

Legal Authority: Title 13 USC, Sections 182, 224, and 225.

OMB Desk Officer: Susan Schechter, (202) 395-5103.

Copies of the above information collection proposal can be obtained by calling or writing Linda Engelmeier, DOC Forms Clearance Officer, (202) 482-3272, Department of Commerce, Room 6068, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: July 11, 2000.
Madeleine Clayton,
Management Analyst, Office of the Chief Information Officer.

[FR Doc. 00-17940 Filed 7-14-00; 8:45 am]

BILLING CODE 3510-07-P